DEPARTMENT OF AGRICULTURE

Submission for OMB Review; Comment Request

October 24, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by November 27, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Case and Procedural Case Action Review Schedule.

OMB Control Number: 0584-0034.

Summary of Collection: State agencies must complete and maintain the FNS-245 for each negative case in their SNAP Quality Control (QC) sample. The legal authority for SNAP QC can be found in Section 16(c) of the Food and Nutrition Act of 2008, as amended; the legislative requirement for the recordkeeping requirements is Section 11(a) of the Act.

Need and Use of the Information: The FNS-245, Negative Case Action Review Schedule, is designed to collect QC data and serve as the data entry form for negative case action QC reviews in the Supplemental Nutrition Assistance Program (SNAP).

Description of Respondents: State, Local, or Tribal Government.

Number of Respondents: 53.

Frequency of Responses: Recordkeeping; Reporting: On occasion; Annually.

Total Burden Hours: 115,514.87.

Food and Nutrition Service

Title: Supplemental Nutrition Assistance Program (SNAP) Connection Resource Sharing Form.

OMB Control Number: 0584-0625.

Summary of Collection: The SNAP-Ed Library is an online database of SNAP-Ed-related materials. The SNAP-Ed Connection Resource Sharing Form gives SNAP-Ed instructors, as well as those who develop nutrition education materials, the opportunity to voluntarily share information about resources that can be used to administer, develop, implement, evaluate or showcase SNAP-Ed programs. SNAP-Ed is authorized under Section 28 of the Food and Nutrition Act (FNA) of 2008, as amended through P.L. 113-79.

Need and Use of the Information: Information collected via this form enables the SNAP-Ed Connection staff to review materials for possible inclusion in the SNAP-Ed Library. By using this database, SNAP-Ed-funded programs can share resources with each other, reduce duplication of efforts, and improve program quality.

Description of Respondents: Business-for-profit; Not-for-profit institutions; State, Local or Tribal Government.

Number of Respondents: 25.

Frequency of Responses: Reporting: On occasion.

Total Burden Hours: 20.

Ruth Brown,
Departmental Information Collection Clearance Officer.

[FR Doc. 2017-23383 Filed 10-26-17; 8:45 am]

BILLING CODE 3410-30-P